DEPARTMENT OF COMMERCE

National Oceanic and Atmospheric Administration

[I.D. 052400F]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet June 26-30, 2000. The Council meeting will begin on Tuesday, June 27, at 8:30 a.m., reconvening each day through Friday. All meetings are open to the public, except a closed session will be held from 8 a.m. until 8:30 a.m. on Tuesday, June 27 to address litigation and personnel matters. The Council will meet as late as necessary each day to complete its scheduled business.

ADDRESSES: The meetings and hearing will be held at the Doubletree Hotel—Columbia River, 1401 Hayden Island Drive, Portland, OR 97217; telephone: (503) 283-2111.

Council address: Pacific Fishery Management Council, 2130 SW Fifth Avenue, Suite 224, Portland, OR 97201.

FOR FURTHER INFORMATION CONTACT: Dr. Donald O. McIsaac, Executive Director; telephone: (503) 326-6352.

SUPPLEMENTARY INFORMATION: The following items are on the Council agenda, but not necessarily in this order:

A. Call to Order

1. Opening Remarks, Introductions, Roll Call

2. Roll Call

3. Executive Director's Report

4. Status of Federal Regulation Implementation

5. Council Action: Approve Agenda

B. Salmon Management

1. Salmon Management Agenda Overview

2. Sequence of Events and Status of Fisheries

3. Salmon Methodology Reviews

4. Status of Amendment 14 and Implications for 2001 Overfishing Concerns

5. Update on Review of Oregon Coastal Natural Coho Management Criteria

C. Marine Reserves

1. Staff Report on Phase I Considerations of Marine Reserves as a Management Measure

D. Groundfish Management

1. Groundfish Management Agenda Overview

2. Status of Federal Groundfish Activities

3. Strategic Plan

4. Stock Assessment Priorities for 2001

5. Status of Fisheries and Inseason Adjustments

6. Sablefish Three-Tier Fishery—Inseason Adjustments

7. Rockfish Bycatch Rates

8. Plan Amendment to Address Bycatch and Management Measure Issues

9. American Fisheries Act Management Measures

10. Process for Technical Review and Monitoring of Rebuilding Plans

11. Canary Rockfish Rebuilding Plan Development

12. Cowcod Rebuilding Plan Development

13. Default Maximum Sustainable Yield (MSY) Fishing Rate within the Harvest Rate Policy

14. Preliminary Feedback on the 2000 Stock Assessment Review Panel Meetings (Draft Stock Assessments for 2001)

15. Fishing Capacity Reduction Measures

16. Observer Program

E. Highly Migratory Species Management

1. Highly Migratory Species Management Agenda Overview

2. Update on Plan Development

F. Coastal Pelagic Species Management

1. Coastal Pelagic Species (CPS) Management Agenda Overview

2. Exempted Fishing Permits to Harvest Anchovy in Closed Area

3. Preliminary Harvest Levels and Other Specifications for 2001

4. Pacific Sardine Harvest Guideline Suballocation

5. CPS Finfish Limited Entry Permit Issues: Capacity Goal and Squid Permit Transferability

6. Status of CPS Fishery Management Plan (FMP) Amendments for Bycatch and Market Squid MSY, Acceptable Biological Catch, and Tribal Fishing Rights

G. Habitat Issues

1. Report of the Habitat Steering Group (HSG)

2. Process for Designating Habitat Areas of Particular Concern

H. Administrative and Other Matters

1. Report of the Budget Committee

2. Status of Legislation

3. Changes in Council Operations and Protocols

4. Report on the Council Chairmans' Meeting

5. Research and Data Needs/Economic Data Plan

6. Council Staff Workload Priorities and Schedules

7. Appointment to the Groundfish Advisory Subpanel

8. Draft Agenda for September 2000

Schedule of Ancillary Meetings

Monday, June 26, 2000

Council Secretariat—7 a.m.; Deschutes Room

Groundfish Management Team—8 a.m.; Yakima Room

Scientific and Statistical—8 a.m.; Umatilla Room

Habitat Steering Group—9 a.m.; Tualatin Room

Budget Committee—2 p.m.; Umpqua Room

Groundfish Advisory Subpanel—11 a.m.; Willamette Room

Legal Gear/Habitat Impacts—6 p.m.; Tualatin Room

Tuesday, June 27, 2000

Council Secretariat—7 a.m.; Deschutes Room

California State Delegation—7 a.m.; Yakima Room

Oregon State Delegation—7 a.m.; Willamette Room

Washington State Delegation—7 a.m.; Umatilla Room

Groundfish Advisory Subpanel—8 a.m.; Willamette Room

Groundfish Management Team—8 a.m.; Yakima Room

Scientific and Statistical—8 a.m.; Umatilla Room

Enforcement Consultants—5:30 p.m.; Tualatin Room

Ad-Hoc Groundfish Strategic Plan Development Committee Briefing—7 p.m.; Willamette Room

Wednesday, June 28, 2000

Council Secretariat—7 a.m.; Deschutes Room

California State Delegation—7 a.m.; Yakima Room

Oregon State Delegation—7 a.m.; Willamette Room

Washington State Delegation—7 a.m.; Umatilla Room

Scientific and Statistical—8 a.m.; Umatilla Room

Enforcement Consultants—As Needed; TBD

Groundfish Advisory Subpanel—As Needed; Willamette Room

Groundfish Management Team—As Needed; Yakima Room

Thursday, June 29, 2000

Council Secretariat—7 a.m.; Deschutes Room

California State Delegation—7 a.m.; Yakima Room

Oregon State Delegation—7 a.m.; Willamette Room

Washington State Delegation—7 a.m.; Umatilla Room

Enforcement Consultants—As Needed; TBD

Groundfish Advisory Subpanel—As Needed; Willamette Room

Groundfish Management Team—As Needed; Yakima Room

Highly Migratory Species Advisory—10 a.m.; Umatilla Room

Friday, June 30, 2000

Council Secretariat—7 a.m.; Deschutes Room

California State Delegation—7 a.m.; Yakima Room

Oregon State Delegation—7 a.m.; Willamette Room

Washington State Delegation—7 a.m.; Umatilla Room

Enforcement Consultants—As Needed; TBD

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Mr. John S. Rhoton at (503) 326-6352 at least 5 days prior to the meeting date.

Dated: May 25, 2000.
Richard W. Surdi,
Acting Director, Office of Sustainable Fisheries, National Marine Fisheries Service.

[FR Doc. 00-13713 Filed 5-31-00; 8:45 am]

BILLING CODE 3510-22-P